COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by the nonprofit agency employing persons who are blind or have other severe disabilities, and deletes services from the Procurement List previously provided by such agencies.

DATES: Effective on June 5, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 12/11/2015 (80 FR 76948), the Committee for Purchase From People Who Are Blind or Severely Disabled published notice of proposed additions to the Procurement List.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

8415-01-492-0176—Gloves, Disposable, Nitrile, Industrial-Grade, Small

8415-01-492-0178—Gloves, Disposable, Nitrile, Industrial-Grade, Large

8415-01-492-0179—Gloves, Disposable, Nitrile, Industrial-Grade, Medium

8415-01-492-0180—Gloves, Disposable, Nitrile, Industrial-Grade, XLarge

Mandatory Source(s) of Supply: Central Association for the Blind & Visually Impaired, Utica, NY

Mandatory For: Total Government Requirement

Contracting Activity: General Services Administration, Fort Worth, TX

Distribution: A-List

The Committee for Purchase From People Who Are Blind or Severely Disabled (Committee) received comments from one firm objecting to the addition. The firm stated it is the incumbent contractor for the General Services Administration, and loss of the ability to compete for the future contract will negatively impact the firm's business. In the normal competitive procurement process, there are no guarantees of continuous contracts. Further, the Committee reviewed and applied its standard impact analysis methodology to the information submitted by the firm. The Committee determined, in accordance with its longstanding business practices, that addition of Gloves, Blue Nitrile (Industrial) to the Procurement List would not result in a severe adverse impact.

The Committee operates pursuant to statutory and regulatory requirements. The Committee's mission is to create employment opportunities for people who are blind or severely disabled. Committee regulation 41 CFR 51-2.4 states that for a commodity or service to be suitable for addition to the Procurement List, each of the following criteria must be satisfied: (1) the addition to the Procurement List must demonstrate a potential to generate employment of people who are blind or have other severe disabilities; (2) the nonprofit agency proposing to provide the product or service to the Federal Government must be qualified to participate in the AbilityOne program as defined in separate Committee regulations; (3) the nonprofit agency must prove itself capable to deliver the product or service at the quality standard and delivery schedule required by the Government; and (4) the Committee reviews the level of impact on the current contractor for the commodity or service.

After consideration of the material presented to it concerning employment potential, the qualifications of the nonprofit agency, the capability of the recommended nonprofit agency to provide the products, and the impact of the addition on the current or most recent contractor, the Committee has determined that the products listed above are suitable for procurement by the Federal Government under 41 U.S.C. 8501-8506 and 41 CFR 51-2.4 at a Fair Market Price and has approved the products for addition to the Procurement List.

Deletions

On 4/1/2016 (81 FR 18839-18840), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type(s): Recycling Service, Pest Control Service, Furnishings Management Service.

Service Mandatory For: Offutt Air Force Base, Offutt AFB, NE.

Mandatory Source(s) of Supply: Goodwill Specialty Services, Inc., Omaha, NE.

Contracting Activity: Dept of the Air Force, FA7014 AFDW PK, Andrews AFB, MD.

Service Type: Janitorial/Custodial Service.

Service Mandatory For: Fairchild Air Force Base: Base and Survival School, Buildings 2249C, 1224, 1302, 1306, 1336, 1344, 1348, 2248D, 2301, 2451A, 1212, 1228, 1324, 1334, 1342 and 1207, OSI Building 5025 and the Social Actions Building 3509 Fairchild AFB, WA.

Mandatory Source(s) of Supply: Skils'kin, Spokane, WA.

Contracting Activity: Dept of the Air Force, FA7014 AFDW PK, Andrews AFB, MD.

Barry S. Lineback,
Director, Business Operations.

[FR Doc. 2016-10709 Filed 5-5-16; 8:45 am]

BILLING CODE 6353-01-P